COMMITTEE FOR PURCHASE FROM PEOPLE WHO ARE BLIND OR SEVERELY DISABLED

41 CFR Parts 51-2, 51-3, and 51-4

[Docket No. 2004-01-02]

RIN 3037-AA00

Governance Standards for Central Nonprofit Agencies and Nonprofit Agencies Participating in the Javits-Wagner-O'Day Program

AGENCY: Committee for Purchase From People Who Are Blind or Severely Disabled.

ACTION: Proposed rule; extension of comment period.

SUMMARY: The Committee for Purchase From People Who Are Blind or Severely Disabled (The Committee), which is responsible for administering and overseeing the implementation of the Javits-Wagner-O'Day (JWOD) Act, is extending the comment period for the proposed rule to require nonprofit agencies awarded Government contracts under the authority of the JWOD Act, as well as central nonprofit agencies designated by the Committee and nonprofit agencies that would like to qualify for participation in the JWOD Program, to comply with new governance standards. This action will allow interested persons more time to prepare and submit comments.

DATES: Submit your written comments on the proposed rule on or before February 10, 2005. No public meeting will be held.

ADDRESSES: Send your comments on the proposed rule in one of the following ways:

• By electronic mail (preferred method) to rulecomments@jwod.gov;

• By fax, to the attention of G. John Heyer, to (703) 603-0655;

• By postal mail to Committee for Purchase From People Who Are Blind or Severely Disabled, 1421 Jefferson Davis Highway, Jefferson Plaza 2, Suite 10800, Arlington, VA, 22202-3259; or

• Through the Federal eRulemaking Portal at http://www.regulations.gov. Follow the instructions on the site for submitting comments.

For more information on how to submit your comments, please refer to the “Public Comments Solicited” section in the proposed rule.

Comments will be made available for public inspection, from 9 a.m. to 4 p.m. on weekdays, at the Committee for Purchase From People Who Are Blind or Severely Disabled, 1421 Jefferson Davis Highway, Jefferson Plaza 2, Suite 10800, Arlington, VA, 22202-3259.

FOR FURTHER INFORMATION CONTACT: G. John Heyer, by telephone at (703) 603-0665, by fax at (703) 603-0655, by e-mail at jheyer@jwod.gov, or by postal mail at Committee for Purchase From People Who Are Blind or Severely Disabled, 1421 Jefferson Davis Highway, Jefferson Plaza 2, Suite 10800, Arlington, VA, 22202-3259.

SUPPLEMENTARY INFORMATION: On November 12, 2004, the Committee published in the Federal Register (69 FR 65395-65401, Docket No. 2004-01-01) a proposed rule to require nonprofit agencies awarded Government contracts under the authority of the JWOD Act, as well as central nonprofit agencies designated by the Committee and nonprofit agencies that would like to qualify for participation in the JWOD Program, to comply with new governance standards, including standards concerning the practices of boards of directors and the reasonableness of executive and other employee compensation.

Comments on the proposed rule were required to be received on or before January 11, 2005. The Committee is extending the comment period on Docket No. 2004-01-01 for an additional 30 days, ending February 10, 2005. This action will allow interested persons additional time to prepare and submit comments. Comments already submitted on the proposed rule need not be resubmitted as they will be fully considered in the final determination.

Authority: 41 U.S.C. 46-48c.

Dated: November 23, 2004.
Leon A. Wilson, Jr.,
Executive Director, Committee for Purchase From People Who Are Blind or Severely Disabled.

[FR Doc. 04-26651 Filed 12-2-04; 8:45 am]

BILLING CODE 6353-01-P